ENVIRONMENTAL PROTECTION AGENCY

[EPA-HQ-OW-2003-0019; FRL-8444-1]

Agency Information Collection Activities; Proposed Collection; Comment Request; Clean Watersheds Needs Survey; ICR No. 0318.11; OMB Control No. 2040-0050

AGENCY: Environmental Protection Agency.

ACTION: Notice.

SUMMARY: In compliance with the Paperwork Reduction Act (PRA) (44 U.S.C. 3501 et seq.), this document announces that EPA is planning to submit a request to renew an existing approved Information Collection Request (ICR) to the Office of Management and Budget (OMB). This ICR is scheduled to expire on July 31, 2008. Before submitting the ICR to OMB for review and approval, EPA is soliciting comments on specific aspects of the proposed information collection as described below.

DATES: Comments must be submitted on or before September 21, 2007.

ADDRESSES: Submit your comments, identified by Docket ID No. EPA-HQ-OW-2003-0019 by one of the following methods:

http://www.regulations.gov: Follow the on-line instructions for submitting comments.

E-mail: OW-Docket@epa.gov.

Mail: Water Docket, Environmental Protection Agency, Mailcode: 4104T, 1200 Pennsylvania Ave., NW., Washington, DC 20460.

Hand Delivery: Docket at Public Reading Room, Room B102, EPA West Building, 1301 Constitution Avenue, NW., Washington, DC. Such deliveries are only accepted during the Docket's normal hours of operation, and special arrangements should be made for deliveries of boxed information.

Instructions: Direct your comments to Docket ID No. EPA-HQ-OW-2003-0019. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

FOR FURTHER INFORMATION CONTACT: Michael Plastino, Municipal Support Division, Office of Wastewater Management, Environmental Protection Agency, 1200 Pennsylvania Ave., NW., Washington, DC 20460; phone number: 202-564-0682; fax number: 202-501-2397; e-mail address: plastino.michael@epa.gov.

SUPPLEMENTARY INFORMATION:

How Can I Access the Docket and/or Submit Comments?

EPA has established a public docket for this ICR under Docket ID No. EPA-HQ-OW-2003-0019, which is available for online viewing at www.regulations.gov, or in person viewing at the Water Docket in the EPA Docket Center (EPA/DC), EPA West, Room 3334, 1301 Constitution Ave., NW., Washington, DC. The EPA/DC Public Reading Room is open from 8 a.m. to 4:30 p.m., Monday through Friday, excluding legal holidays. The telephone number for the Reading Room is 202-566-1744, and the telephone number for the Water Docket is 202-566-2426.

Use www.regulations.gov to obtain a copy of the draft collection of information, submit or view public comments, access the index listing of the contents of the docket, and to access those documents in the public docket that are available electronically. Once in the system, select “search,” then key in the docket ID number identified in this document.

What Information Is EPA Particularly Interested in?

Pursuant to section 3506(c)(2)(A) of the PRA, EPA specifically solicits comments and information to enable it to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

What Should I Consider When I Prepare My Comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

What Information Collection Activity or ICR Does This Apply to?

Affected entities: Entities potentially affected by this action are state governments and publicly owned wastewater treatment facilities.

Title: Clean Watersheds Needs Survey.

ICR numbers: EPA ICR No. 0318.11, OMB Control No. 2040-0050.

ICR status: The current ICR (EPA ICR No. 0318.10) is scheduled to expire on July 31, 2008. The effective date of this ICR renewal (EPA ICR No. 0318.11) is January 22, 2008—at which point EPA ICR No. 0318.10 will be superseded by EPA ICR No. 0318.11. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: The Clean Watersheds Needs Survey (CWNS) is required by Sections 205(a) and 516(b)(1) of the Clean Water Act (http://www.epa.gov/cwns). It is a periodic inventory of existing and proposed publicly owned wastewater treatment works (POTWs) and other water pollution control facilities in the United States, as well as an estimate of how many POTWs need to be built. The CWNS is a voluntary, joint effort of EPA and the States. The Survey records cost and technical data associated with POTWs and other water pollution control facilities, existing and proposed, in the United States. The State respondents who provide this information to EPA are State agencies responsible for environmental pollution control. No confidential information is used, nor is sensitive information protected from release under the Public Information Act. EPA achieves national consistency in the final results through the application of uniform guidelines and validation techniques.

Burden Statement: The annual public reporting and recordkeeping burden for this collection of information is estimated to average 1.46 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR will provide a detailed explanation of the Agency's estimate, which is only briefly summarized here:

Estimated total number of potential respondents: 56 State (States, District of Columbia, and U.S. Territories) respondents, approximately 5,400 water pollution control facilities.

Frequency of response: Every 4 Years.

Estimated total average number of responses for each State respondent: 322, of which approximately 100 are estimated to involve State interaction with water pollution control facilities.

Estimated total annual burden hours: 8,807.

Estimated total annual costs: $296,000. This includes an estimated burden cost of $296,000 and an estimated cost of $0 for capital investment or maintenance and operational costs.

Are There Changes in the Estimates From the Last Approval?

There is an overall increase of 1,136 annual hours in the total estimated respondent burden compared with that identified in the ICR approved by OMB for the 2004 Survey under EPA ICR No. 0318.09 (the currently active EPA ICR No. 0318.10 only covers infrequent updates, made by States solely for their own State's benefit, in the period between the 2004 and 2008 Surveys).

Feedback received from States following the 2004 survey indicated that the total burden to the 56 respondents was approximately 893 annual hours greater than the 7,672 annual hours estimated in EPA ICR No. 0318.09. Additionally, State feedback indicated approximately 1,713 annual burden hours for POTWs to interact with States on State's responses to the 2004 Survey. Taken together, the 893 additional annual state hours and the 1,713 POTW hours add to 2,605 annual hours expended in 2004 beyond what was estimated in EPA ICR No. 0318.09.

EPA, in partnership with States, is in the process of completing several activities that will decrease the total annual burden hours. The development of a new web-based data entry system, in conjunction with reduced data element requirements and several streamlined methods for assuring data quality, are estimated to reduce reporting burden by 2,536 annual hours.

The projected increase in the number of facilities for which States submit needs (due to greater availability of substantiating documentation and needs estimation techniques) correlates with an increase of approximately 1,066 annual hours.

What is the Next Step in the Process for This ICR?

EPA will consider the comments received and amend the ICR as appropriate. The final ICR package will then be submitted to OMB for review and approval pursuant to 5 CFR 1320.12. At that time, EPA will issue another Federal Register notice pursuant to 5 CFR 1320.5(a)(1)(iv) to announce the submission of the ICR to OMB and the opportunity to submit additional comments to OMB. If you have any questions about this ICR or the approval process, please contact the technical person listed under FOR FURTHER INFORMATION CONTACT.

Dated: July 17, 2007.
James A. Hanlon,
Director, Office of Wastewater Management.

[FR Doc. E7-14157 Filed 7-20-07; 8:45 am]

BILLING CODE 6560-50-P